DEPARTMENT OF HOMELAND SECURITY

U.S. Customs and Border Protection

[Docket No. USCBP-2018-0004]

Commercial Customs Operations Advisory Committee (COAC)

AGENCY: U.S. Customs and Border Protection (CBP), Department of Homeland Security (DHS).

ACTION: Committee management; notice of Federal advisory committee meeting.

SUMMARY: The Commercial Customs Operations Advisory Committee (COAC) will hold its quarterly meeting on Wednesday, February 28, 2018, in Miami, Florida. The meeting will be open to the public.

DATES: The COAC will meet on Wednesday, February 28, 2018, from 1:00 p.m. to 5:00 p.m. EST. Please note that the meeting may close early if the committee has completed its business.

ADDRESSES: The meeting will be held at the DoubleTree Hotel, 711 NW 72nd Avenue, Miami, FL 33126. For information on facilities or services for individuals with disabilities or to request special assistance at the meeting, contact Ms. Florence Constant-Gibson, Office of Trade Relations, U.S. Customs & Border Protection, at (202) 344-1440 as soon as possible.

Pre-Registration: Meeting participants may attend either in person or via webinar after pre-registering using one of the methods indicated below:

For members of the public who plan to attend the meeting in person, please register by 5:00 p.m. EST February 27, 2018, either online at https://apps.cbp.gov/te_reg/index.asp?w=124; by email to tradeevents@dhs.gov; or by fax to (202) 325-4290. You must register prior to the meeting in order to attend the meeting in person.

For members of the public who plan to participate via webinar, please register online at https://apps.cbp.gov/te_reg/index.asp?w=123 by 5:00 p.m. EST, February 27, 2018.

Please feel free to share this information with other interested members of your organization or association.

Members of the public who are pre-registered to attend and later need to cancel, please do so by February 27, 2018, utilizing the following links: https://apps.cbp.gov/te_reg/cancel.asp?w=124 to cancel an in person registration or https://apps.cbp.gov/te_reg/cancel.asp?w=123 to cancel a webinar registration.

To facilitate public participation, we are inviting public comment on the issues the committee will consider prior to the formulation of recommendations as listed in the Agenda section below.

Comments must be submitted in writing no later than February 26, 2018, and must be identified by Docket No. USCBP-2018-0004, and may be submitted by one (1) of the following methods:

• Federal eRulemaking Portal: http://www.regulations.gov. Follow the instructions for submitting comments.

• Email: tradeevents@dhs.gov. Include the docket number in the subject line of the message.

• Fax: (202) 325-4290, Attention Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2018-0004) for this action. Comments received will be posted without alteration at http://www.regulations.gov. Please do not submit personal information to this docket.

Docket: For access to the docket or to read background documents or comments, go to http://www.regulations.gov and search for Docket Number USCBP-2018-0004. To submit a comment, click the “Comment Now!” button located on the top-right hand side of the docket page.

There will be multiple public comment periods held during the meeting on February 28, 2018. Speakers are requested to limit their comments to two (2) minutes or less to facilitate greater participation. Contact the individual listed below to register as a speaker. Please note that the public comment period for speakers may end before the time indicated on the schedule that is posted on the CBP web page, http://www.cbp.gov/trade/stakeholder-engagement/coac.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Mr. Bradley Hayes, Executive Director and Designated Federal Officer at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The COAC will hear from the following subcommittees on the topics listed below and then will review, deliberate, provide observations, and formulate recommendations on how to proceed:

1. The Trusted Trader Subcommittee will present an update from the C-TPAT Minimum Security Criteria Working Group on its recommendations regarding CBP's plans to roll out new C-TPAT criteria. The subcommittee will also provide an update on the progress on the Trusted Trader Strategy.

2. The One U.S. Government Subcommittee will continue discussions on the progress of the Fish & Wildlife Service Working Group and will present the white paper on the Harmonized Tariff Schedule project. The subcommittee will also discuss an update from CBP's Trade Transformation Office on ACE Deployment G Release 4 and also from the Technical and Operational Outages Working Group.

3. The Exports Subcommittee will discuss the final work of the Export Manifest Working Group, which has been developing comprehensive recommendations on the following topics: Timelines, filing regime, targeting regime, hold issuance and shipment interception process, and an account-based penalties regime. There will also be an update on the automated export manifest pilots, and on progress in implementing a post-departure filing pilot as part of the ocean pilot.

4. The Trade Modernization Subcommittee will discuss the International Engagement and Trade Facilitation Working Group's efforts to prioritize the recommendations it made in 2017. The subcommittee will discuss the establishment of the Regulation Modernization Working Group and its efforts to identify and prioritize areas of regulations administered by CBP that can be reformed. In addition, the subcommittee will discuss the establishment of the Trade Facilitation and Trade Enforcement Act (TFTEA) Educational Mandate Working Group that will identify educational opportunities as referenced in Section 104 of TFTEA. Finally, the subcommittee will discuss the progress being made in the e-Commerce Working Group.

5. The Global Supply Chain Subcommittee will present the status of a pilot that will test the utilization of existing Automated Commercial Environment (ACE) automation in the pipeline mode of transportation. The committee will also discuss the progress of the Global Supply Chain Subcommittee's Emerging Technologies Working Group. The subcommittee will discuss the activities of the newly formed In-Bond Working Group that will focus on identifying issues within the scope of the “Changes to the In-Bond Process” final rule published in the Federal Register on September 28, 2017 regarding their implementation.

6. The Trade Enforcement & Revenue Collection (TERC) Subcommittee will provide necessary updates from the Anti-Dumping and Countervailing Duty, Bond, Forced Labor and Intellectual Property Rights Working Groups.

Meeting materials will be available by February 23, 2018 at: http://www.cbp.gov/trade/stakeholder-engagement/coac/coac-public-meetings.

Dated: January 31, 2018.
Bradley F. Hayes,
Executive Director, Office of Trade Relations.

[FR Doc. 2018-02297 Filed 2-5-18; 8:45 am]

BILLING CODE 9111-14-P